DEPARTMENT OF TRANSPORTATION

Federal Railroad Administration

[Docket Number FRA-2018-0033]

Petition for Waiver of Compliance

Under part 211 of Title 49 of the Code of Federal Regulations (CFR), this provides the public notice that on March 30, 2018, Michigan State Trust for Railway Preservation, Inc. (MSTP) petitioned the Federal Railroad Administration (FRA) for a waiver of compliance from certain provisions of the Federal railroad safety regulations contained at 49 CFR 240.201(d). FRA assigned the petition Docket Number FRA-2018-0033.

MSTP seeks a waiver of compliance from 49 CFR 240.201(d) which states, “After December 31, 1991, no railroad shall permit or require any person to operate a locomotive in any class of locomotive or train service unless that person has been certified as a qualified locomotive engineer and issued a certificate that complies with § 240.223.” MSTP desires to conduct a “Hands on the Throttle Program,” which would allow “non-certified” individuals to operate a locomotive as a “Student Locomotive Engineer.”

MSTP is a non-profit educational corporation which owns and operates steam locomotives. The organization is located at the steam locomotive repair facility in Owosso, Michigan, and connected to the tracks of the Great Lakes Central Railway (GLC). The MSTP does not own or control any trackage, except for the track leads going to the repair shop building and museum.

As proposed, MSTP will verify that each participant possesses a valid state issued motor vehicle license, and will have a certified locomotive engineer in the cab at all times. The operations will be conducted on GLC designated tracks during daylight hours with only one locomotive movement at a time, operate at restricted speed, communication will be maintained through the GCL dispatcher, and be afforded blue flag and derail protection. The locomotive will be inspected daily, receive a new brake test per participant, and public highway grade crossings will not be involved. MSTP believes that this waiver will enable it to generate needed interest and revenue to teach steam technology to future generations. MSTP also believes these operations will not pose any safety concerns to the public at large.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 19, 2018 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-11886 Filed 6-1-18; 8:45 am]

BILLING CODE 4910-06-P